DEPARTMENT OF THE INTERIOR

Bureau of Reclamation

Agency Information Collection; Proposed Revisions to a Currently Approved Information Collection

AGENCY: Bureau of Reclamation, Interior.

ACTION: Notice of revisions.

SUMMARY: The Bureau of Reclamation intends to submit a request for renewal (with revisions) of an existing approved information collection to the Office of Management and Budget (OMB): Certification Summary Form, Reporting Summary Form for Acreage Limitation, 43 CFR part 426 and 43 CFR part 428, OMB Control Number: 1006-0006.

DATES: Submit written comments on the revised information collection on or before November 19, 2012.

ADDRESSES: Send written comments to or requests for copies of the proposed revised forms to the Bureau of Reclamation, Attention: 84-53000, P.O. Box 25007, Denver, CO 80225-0007.

FOR FURTHER INFORMATION CONTACT: Stephanie McPhee at (303) 445-2897.

SUPPLEMENTARY INFORMATION:

I. Abstract

This information collection is required under the Reclamation Reform Act of 1982 (RRA), Acreage Limitation Rules and Regulations, 43 CFR part 426, and Information Requirements for Certain Farm Operations In Excess of 960 Acres and the Eligibility of Certain Formerly Excess Land, 43 CFR part 428. The forms in this information collection are to be used by district offices to summarize individual landholder (direct or indirect landowner or lessee) and farm operator certification and reporting forms. This information allows us to establish water user compliance with Federal reclamation law.

II. Changes to the RRA forms and their instructions

The changes made to the currently approved RRA forms and the corresponding instructions are of an editorial nature, and are designed to assist the respondents by increasing their understanding of the forms, clarifying the instructions for completing the forms, and clarifying the information that is required to be on the forms. The proposed revisions to the RRA forms will be effective in the 2014 water year.

III. Data

OMB Control Number: 1006-0006.

Title: Certification Summary Form, Reporting Summary Form for Acreage Limitation, 43 CFR part 426 and 43 CFR part 428.

Form Number: Form 7-21SUMM-C and Form 7-21SUMM-R.

Frequency: Annually.

Respondents: Contracting entities that are subject to the acreage limitation provisions of Federal reclamation law.

Estimated Annual Total Number of Respondents: 182.

Estimated Number of Responses per Respondent: 1.25.

Estimated Total Number of Annual Responses: 228.

Estimated Total Annual Burden on Respondents: 9,120 hours.

Estimated Completion Time per Respondent: See table below.

Form No. | Burden estimate per form (in hours) | Number of respondents | Annual number of responses | Annual burden on respondents (in hours)
7-21SUMM-C and associated tabulation sheets | 40 | 172 | 215 | 8,600
7-21SUMM-R and associated tabulation sheets | 40 | 10 | 13 | 520
Totals |  | 182 | 228 | 9,120

IV. Request for Comments

We invite your comments on:

(a) Whether the proposed collection of information is necessary for the proper performance of our functions, including whether the information will have practical use;

(b) The accuracy of our burden estimate for the proposed collection of information;

(c) Ways to enhance the quality, usefulness, and clarity of the information to be collected; and

(d) Ways to minimize the burden of the information collection on respondents, including the use of automated collection techniques or other forms of information technology.

We will summarize all comments received regarding this notice. We will publish that summary in the Federal Register when the information collection request is submitted to OMB for review and approval.

V. Public Disclosure

Before including your address, phone number, email address, or other personal identifying information in your comment, you should be aware that your entire comment—including your personal identifying information—may be made publicly available at any time. While you can ask us in your comment to withhold your personal identifying information from public review, we cannot guarantee that we will be able to do so.

Dated: September 7, 2012.
Roseann Gonzales,
Director, Policy and Administration, Denver Office.

[FR Doc. 2012-22938 Filed 9-17-12; 8:45 am]

BILLING CODE 4310-MN-P